DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: April 1, 2011.

Location: The Westin New Orleans Canal Place, 100 Rue Iberville, New Orleans, Louisiana 70130 at 504-566-7006 or 1-888-627-8180.

Time: Registration will begin at 8:30 a.m. and the meeting is scheduled to adjourn at approximately 1 p.m.

Agenda: The Board will be provided the status of the funding for inland navigation projects and studies and the status of the Inland Waterways Trust Fund, the funding status for Fiscal Year (FY) 2011 and the FY 2012 budget, consider the implementation of the Inland Marine Transportation System (IMTS) Investment Strategy report recommendations, as well as be updated on the work being performed by the Hurricane Projection Office.

FOR FURTHER INFORMATION CONTACT: Mr. Mark R. Pointon, Headquarters, U.S. Army Corps of Engineers, CECW-ID, 441 G Street, NW., Washington, DC 20314-1000; Ph: 202-761-4691.

SUPPLEMENTARY INFORMATION: The meeting is open to the public. Any interested person may attend, appear before, or file statements with the committee at the time and in the manner permitted by the committee.

Dated: February 24, 2011.
David B. Olson,
Federal Register Liaison Officer, U.S. Army Corps of Engineers.

[FR Doc. 2011-4499 Filed 2-28-11; 8:45 am]

BILLING CODE 3720-58-P